DEPARTMENT OF THE INTERIOR

Bureau of Land Management

[CO-200-1220-MA]

Notice of Temporary Closure of Public Lands to Motorized Vehicle Travel

AGENCY: Bureau of Land Management; Royal Gorge Field Office.

ACTION: Notice of Temporary Closure of Public Lands to Motorized Vehicle Travel on Public Lands.

SUMMARY: Notice is hereby given that effective immediately, certain public lands in Fremont County, Colorado, are temporarily closed to all types of motorized travel. The purpose of this closure is to prevent the development of unauthorized user-created trails and damage to soils and vegetation, and to protect sensitive paleontological resources. Approximately 1,600 acres of public lands are affected by this closure. These lands will remain closed while travel management planning is completed in 2009. This closure is made under the authority of 43 CFR 8364.1.

DATES: Effective immediately from the date of publication in the Federal Register and remaining in effect unless revised, revoked or amended.

ADDRESSES: Bureau of Land Management, Royal Gorge Field Office, 3028 East Main Street, Cañon City, Colorado 81212; telephone 719-269-8500.

FOR FURTHER INFORMATION CONTACT: Roy L. Masinton, Field Manager, or Leah Quesenberry, Outdoor Recreation Planner, at the above address and phone number.

SUPPLEMENTARY INFORMATION: The public lands affected by this closure are identified as follows:

Fremont County, Colorado, Sixth Principal Meridian

Located in the Garden Park area, approximately 6 miles north of Canon City, Colorado.

T. 17 S., R. 70 W., Section 19: SW¼NE¼, SE¼NW¼, NE¼SW¼, and SE¼

Section 20: SW¼NE¼, SE¼NW¼, and S½

Section 23: SE¼SW¼, and SW¼SE¼

Section 26: NE¼, SE¼NW¼, and NE¼SE¼

Section 29: N½, SE¼SW¼, and W½SE¼

Section 30: NE¼

This closure order does not apply to emergency, law enforcement, and federal or other government vehicles while being used for official or other emergency purposes, or to any other vehicle use that is expressly authorized or otherwise officially approved by the BLM. Violation of this order is punishable by a fine not to exceed $1,000, and/or imprisonment not to exceed 12 months as defined under 43 CFR 8360.0-7. Enhanced penalties may also be imposed under the authority of Title 18 U.S.C. § 3571. Notice of this closure order and a detailed map will be posted at the Royal Gorge Field Office.

Roy L. Masinton,
Field Manager.

[FR Doc. E8-31427 Filed 1-5-09; 8:45 am]

BILLING CODE 4310-JB-P